DEPARTMENT OF ENERGY

Federal Energy Regulatory Commission

Notice of Commission Staff Attendance

The Federal Energy Regulatory Commission (Commission) hereby gives notice that members of the Commission's staff may attend the following meetings related to the transmission planning activities of Public Service Company of Colorado, Tucson Electric Power Company, UNS Electric, Inc., Public Service Company of New Mexico, Arizona Public Service Company, El Paso Electric Company, Black Hills Power, Inc., Black Hills Colorado Electric Utility Company, LP, Cheyenne Light, Fuel, & Power Company, Arizona Public Service Company, and NV Energy, Inc.:

Regional Stakeholder Meeting

February 24, 2016, 1 p.m.-4:30 p.m. (MST)

Planning Management Committee Meeting

April 5, 2016, 9 a.m.-12 p.m. (PST)

The above-referenced meetings will be held at: SRP PERA Club, 1 E. Continental Drive, Tempe, Arizona 85281.

The above-referenced meetings will be available via web conference and teleconference.

The above-referenced meetings are open to stakeholders.

Further information may be found at http://www.westconnect.com/index.php.

The discussions at the meetings described above may address matters at issue in the following proceeding:

ER16-912, Arizona Public Service Company.

For more information contact Nicole Cramer, Office of Energy Market Regulation, Federal Energy Regulatory Commission at (202) 502-6775 or nicole.cramer@ferc.gov.

Dated: February 23, 2016.
Nathaniel J. Davis, Sr.,
Deputy Secretary.

[FR Doc. 2016-04388 Filed 2-29-16; 8:45 am]

BILLING CODE 6717-01-P